NATIONAL COUNCIL ON DISABILITY

Sunshine Act Meeting; Quarterly Meeting

AGENCY: National Council on Disability.

SUMMARY: This notice sets forth the schedules and proposed agenda of the upcoming quarterly meeting of the National Council on Disability (NCD). Notice of this meeting is required under section 522b(e)(1) of the Government in the Sunshine Act, (Pub. L. 94-409).

Quarterly Meeting Dates: June 10-11, 2002, 8:30 a.m. to 5 p.m.

Location: Hyatt Regency, Washington, DC on Capitol Hill, 400 New Jersey Avenue, NW., Washington, DC; 202-737-1234.

Contact Information: Mark S. Quigley, Director of Communications, National Council on Disability, 1331 F Street NW., Suite 850, Washington, DC 20004; 202-272-2004 (Voice), 202-272-2074 (TTY), 202-272-2022 (Fax), mquigley@ncd.gov (e-mail).

Agency Mission: NCD is an independent federal agency composed of 15 members appointed by the President and confirmed by the U.S. Senate. Its overall purpose is to promote policies, programs, practices, and procedures that guarantee equal opportunity for all people with disabilities, including people from culturally diverse backgrounds, regardless of the nature or significance of the disability; and to empower people with disabilities to achieve economic self-sufficiency, independent living, and inclusion and integration into all aspects of society.

Accommodations: Those needing sign language interpreters or other disability accommodations should notify NCD at least one week prior to this meeting.

Language Translation: In accordance with Executive Order 13166, Improving Access to Services for Persons with Limited English Proficiency, those people with disabilities who are limited English proficient and seek translation services for this meeting should notify NCD at least one week prior to this meeting.

Multiple Chemical Sensitivity/Environmental Illness: People with multiple chemical sensitivity/environmental illness must reduce their exposure to volatile chemical substances to attend this meeting. To reduce such exposure, NCD requests that attendees not wear perfumes or scented products at this meeting. Smoking is prohibited in meeting rooms and surrounding areas.

Open Meeting: In accordance with the Government in the Sunshine Act and NCD's bylaws, this quarterly meeting will be open to the public for observation, except where NCD determines that a meeting or portion thereof should be closed in accordance with NCD's regulations pursuant to the Government in the Sunshine Act. A majority of NCD members present shall determine when a meeting or portion thereof is closed to the public, in accordance with the Government in the Sunshine Act. At meetings open to the public, NCD may determine when non-members may participate in its discussions. Observers are not expected to participate in NCD meetings unless requested to do so by an NCD member and recognized by the NCD chairperson.

Quarterly Meeting Agenda

Reports from the Chairperson and the Executive Director

Committee Meetings and Committee Reports

Executive Session (closed)

Unfinished Business

New Business

Announcements

Adjournment

Records will be kept of all National Council on Disability proceedings and will be available after the quarterly meeting for public inspection at the National Council on Disability.

Signed in Washington, DC, on February 26, 2002.
Ethel D. Briggs,
Executive Director.

[FR Doc. 02-5016 Filed 2-26-02; 4:59 pm]

BILLING CODE 6820-MA-M